Title 3—

The President

Proclamation 8890 of October 15, 2012

Death of Arlen Specter

By the President of the United States of America

A Proclamation

As a mark of respect for the memory of Arlen Specter, I hereby order, by the authority vested in me by the Constitution and laws of the United States of America, that on the day of his interment, the flag of the United States shall be flown at half-staff at the White House and upon all public buildings and grounds, at all military posts and naval stations, and on all naval vessels of the Federal Government in the District of Columbia and throughout the United States and its Territories and possessions until sunset on such day. I also direct that the flag shall be flown at half-staff for the same period at all United States embassies, legations, consular offices, and other facilities abroad, including all military facilities and naval vessels and stations.

IN WITNESS WHEREOF, I have hereunto set my hand this fifteenth day of October, in the year of our Lord two thousand twelve, and of the Independence of the United States of America the two hundred and thirty-seventh.

[FR Doc. 2012-26011

Filed 10-18-12; 11:15 am]

Billing code 3295-F3